DEPARTMENT OF THE INTERIOR

Bureau of Land Management

[223 LLUTP00000 L17110000.AQ0000 BOC:253Y00]

Notice of Public Meeting, Grand Staircase-Escalante National Monument Advisory Committee, Utah

AGENCY: Bureau of Land Management, Interior.

ACTION: Notice of meeting.

SUMMARY: In accordance with the Federal Land Policy and Management Act of 1976, as amended, the Federal Advisory Committee Act of 1972, and the Federal Lands Recreation Enhancement Act, the U.S. Department of the Interior, Bureau of Land Management's (BLM) Grand Staircase-Escalante National Monument Advisory Committee will meet as indicated below.

DATES: The Grand Staircase-Escalante National Monument Advisory Committee will hold virtual meetings on June 27, 2023, and Sept. 12, 2023. Both meetings will be held from 9 a.m. to 4 p.m. All meetings are open to the public.

ADDRESSES: The agenda and meeting access information (including how to log in and participate in virtual meetings) will be announced on the Grand Staircase-Escalante National Monument Advisory Committee web page 30 days before the meeting at https://bit.ly/3QGqaqJ.

FOR FURTHER INFORMATION CONTACT: David Hercher, Paria River District Public Affairs Specialist, 669 S Highway 89A, Kanab, UT 84741, via email with the subject line “GSENM MAC” to dhercher@blm.gov, or by calling the Grand Staircase-Escalante National Monument Office at (435) 644-1200. Individuals in the United States who are deaf, deafblind, hard of hearing, or have a speech disability may dial 711 (TTY, TDD, or TeleBraille) to access telecommunications relay services. Individuals outside the United States should use the relay services offered within their country to make international calls to the point-of-contact in the United States. Please make requests in advance for sign language interpreter services, assistive listening devices, or other reasonable accommodations. We ask that you contact the person listed above at least 7 days prior to the meeting to give the Department of the Interior sufficient time to process your request. All reasonable accommodation requests are managed on a case-by-case basis.

SUPPLEMENTARY INFORMATION: Presidential Proclamations 6920 and 10286 established the Grand Staircase-Escalante National Monument Advisory Committee to provide advice and information to the Secretary of the Interior (through the Director of the BLM) to consider for the management of Grand Staircase-Escalante National Monument. The 15-member committee represents a wide range of interests including Tribal, local, and State government, the educational community, the conservation community, an outfitter and guide operating within the monument, a livestock grazing permittee operating within the monument, a dispersed recreation representative, and members with expertise in paleontology, archaeology, geology, botany or wildlife, history or social science, and systems ecology.

Planned agenda items for the June meeting will include administrative business, nomination of a new committee chair, a resource management planning status update, a public comment period, and advisory committee discussion and formal recommendations for development of the science plan for the monument.

Planned agenda items for the September meeting will include administrative business, a resource management planning status update, a public comment period, and advisory committee discussion and formal recommendations for the draft environmental impact statement and proposed resource management plan.

The BLM welcomes comments from all interested parties. Both meetings will include a public comment period from 1:30 p.m. to 2:15 p.m., or once all comments have concluded. Written comments may also be sent to the Grand Staircase-Escalante National Monument at the address listed in the FOR FURTHER INFORMATION CONTACT section of this notice. All comments received prior to the meeting will be provided to the Grand Staircase-Escalante National Monument Advisory Committee. Before including your address, phone number, email address, or other personal identifying information in your comment, you should be aware that your entire comment—including your personal identifying information—may be made publicly available at any time. While you can ask us in your comment to withhold your personal identifying information from public review, we cannot guarantee that we will be able to do so.

Detailed meeting minutes for the Grand Staircase-Escalante National Monument Advisory Committee meeting will be maintained in the Paria River District Office and will be available for public inspection and reproduction during regular business hours within 90 days following the meeting. Minutes will also be posted to the Grand Staircase-Escalante National Monument Advisory Committee web page.

Authority: 43 CFR 1784.4-2.

Anita Bilbao,
Acting State Director, Utah.

[FR Doc. 2023-06370 Filed 3-27-23; 8:45 am]

BILLING CODE 4331-25-P